DEPARTMENT OF HEALTH AND HUMAN SERVICES

Centers for Disease Control and Prevention

Advisory Committee on Immunization Practices (ACIP)

Correction: This notice was published in the Federal Register on January 25, 2017, Volume 82, Page 8427. The Matters for Discussion should read as follows:

Matters for Discussion: The agenda will include discussions on: Meningococcal vaccine; influenza; hepatitis B vaccine; herpes zoster vaccine; vaccine safety; yellow fever vaccine; Zika virus vaccine; mumps outbreak; Dengue virus vaccines; Polio Eradication Initiative; Measles and Rubella Elimination Initiative; adult immunization and vaccine supply. A recommendation vote is scheduled for hepatitis B vaccine A Vaccines for Children (VFC) vote is scheduled for hepatitis B vaccine.

Agenda items are subject to change as priorities dictate.

Contact Person for More Information: Stephanie Thomas, National Center for Immunization and Respiratory Diseases, CDC, 1600 Clifton Road NE., MS-A27, Atlanta, Georgia 30329, telephone 404/639-8836; Email ACIP@CDC.GOV.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-02879 Filed 2-10-17; 8:45 am]

BILLING CODE 4163-18-P